DEPARTMENT OF TRANSPORTATION

Federal Aviation Administration

Notice of Intent to Rule on Request to Release Airport Property at the Garden County Airport, Oshkosh, NE

AGENCY: Federal Aviation Administration, (FAA), (DOT).

ACTION: Notice of request to release airport property.

SUMMARY: The FAA proposes to rule and invites public comment on the release of land at the Garden County Airport under the provisions of Section 125 of the Wendell H. Ford Aviation Investment Reform Act for the 21st Century (AIR 21).

DATES: Comments must be received on or before August 26, 2002.

ADDRESSES: Comments on this application may be mailed or delivered to the FAA at the following address: Federal Aviation Administration, Central Region, Airports Division, 901 Locust, Kansas City, Missouri 64106-2325. In addition, one copy of any comments submitted to the FAA must be mailed or delivered to Diane J. Hofer, P.E., Deputy Director of Planning & Engineering at the following address: State of Nebraska, Department of Aeronautics, 3431 Aviation Road, Suite 150, Lincoln, Nebraska 68524.

FOR FURTHER INFORMATION CONTACT: Nicoletta Oliver, Airports Compliance Specialist, FAA, Central Region, 901 Locust, Kansas City, MO 64106-2325, (816) 329-2642.

The request to release property may be reviewed in person at this same location.

SUPPLEMENTARY INFORMATION: The FAA proposes to rule and invites public comment on the request to release property at the Garden County Airport under the provisions of AIR 21.

On May 23, 2002, the FAA determined that the request to release property at the Garden County Airport submitted by the Nebraska Department Aeronautics, as agent for the Garden County Airport Authority, met the procedural requirements of the Federal Aviation Administration. The FAA will approve or disapprove the request, in whole or in part, no later than September 30, 2002.

The following is a brief overview of the request.

The Garden County Airport Authority requests the release of approximately 52 acres of airport property. The land is currently not being used for aeronautical purposes. The purpose of this release is to transfer ownership to adjacent landowners in exchange for land that is needed for the extension of Runway 12.

Any person may inspect the request in person at the FAA office listed above under For Further Information Contact.

In addition, any person may, upon request, inspect the application, notice and other documents germane to the request in person at the Nebraska Department of Aeronautics, Lincoln, Nebraska.

Issued in Kansas City, Missouri, on May 23, 2002.
Glenn E. Helm,
Acting Manager, Airports Division, Central Region.

[FR Doc. 02-18761 Filed 7-24-02; 8:45 am]

BILLING CODE 4910-13-M